DEPARTMENT OF DEFENSE

Department of the Army

[Docket ID: USA-2008-0029]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0351-17a USMA

System name:

U.S. Military Academy Candidate Files (February 22, 1993, 58 FR 10002).

Changes:

* * * * *

Authority for maintenance of the system:

Delete entry and replace with “10 U.S.C. 4331, Establishment; Superintendent; faculty; 10 U.S.C. 4332, Departments and Professors: Titles; 10 U.S.C. 4334, Command and Supervision; Army Regulation 351-17, U.S. Military Academy and U.S. Military Academy Preparation School Admissions Program; and E.O. 9397 (SSN).”

* * * * *

Storage:

Delete entry and replace with “Paper records in file folders and electronic storage media.”

Retrievability:

By candidate's surname; by source of nomination, current status, and special categories.

Retention and disposal:

Delete entry and replace with “For accepted candidates, records become part of the Cadet's Personnel Record. Records on candidates not accepted for admission are destroyed either on expiration of age eligibility or after 3 years, whichever is later.”

* * * * *

A0351-17a USMA

System name:

U.S. Military Academy Candidate Files.

System location:

U.S. Military Academy, West Point, NY 10996-1797.

Categories of individuals covered by the system:

Potential and actual candidates for entrance to the U.S. Military Academy for the current and previous 2 years.

Categories of records in the system:

Entrance examination results, Personal Data Record (DD Form 1867), Candidate Activities Report (DD Form 1868), Prospective Candidate Questionnaire (DD Form 1908), Interview Sheets, School Official's Evaluation (DD Form 1869), Employer's Evaluation of Candidate, Scholastic Aptitude Examination scores, American College Testing Program Scores, High School and College/University transcripts, physical aptitude examination, Candidate Summary Sheets, Nominating Letter, naturalization or adoption papers, birth certificate, Oath 50950, special orders, all correspondence to/from and about candidate.

Authority for maintenance of the system:

10 U.S.C. 4331, Establishment; Superintendent; faculty; 10 U.S.C. 4332, Departments and Professors: Titles; 10 U.S.C. 4334, Command and Supervision; Army Regulation 351-17, U.S. Military Academy and U.S. Military Academy Preparation School Admissions Program; and E.O. 9397 (SSN).

Purpose(s):

To evaluate a candidate's academic, leadership, and physical aptitude potential for the U.S. Military Academy, to conduct management studies of admissions criteria and procedures.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to Members of Congress to assist them in nominating candidates.

The ‘Blanket Routine Uses’ set forth at the beginning of the Army's compilation of systems of records notices also apply to this system.

Policies and practices for storing, retrieving, accessing, retaining, and disposing of records in the system:

Storage:

Paper records in file folders and electronic storage media.

Retrievability:

By candidate's surname; by source of nomination, current status, and special categories.

Safeguards:

All information is stored in locked rooms with restricted access to authorized personnel. Automated data are further protected by a user identification and password convention.

Retention and disposal:

For accepted candidates, records become part of the Cadet's Personnel Record. Records on candidates not accepted for admission are destroyed either on expiration of age eligibility or after 3 years, whichever is later.

System manager(s) and address:

Superintendent, U.S. Military Academy, West Point, NY 10996-1797.

Notification procedure:

Individuals seeking to determine whether information about themselves is contained in this system should address written inquiries to the Superintendent, U.S. Military Academy, West Point, NY 10996-1797.

Individual should provide the full name, current address, year of application, source of nomination, and signature.

Record access procedures:

Individuals seeking access to information about themselves contained in this system should address written inquiries to the Superintendent, U.S. Military Academy, West Point, NY 10996-1797.

Individual should provide the full name, current address, year of application, source of nomination, and signature.

Contesting record procedures:

The Army's rules for accessing records, and for contesting contents and appealing initial agency determinations are contained in Army Regulation 340-21; 32 CFR part 505; or may be obtained from the system manager.

Record source categories:

From the individual, Members of Congress, school transcripts, evaluations from former employer(s), medical reports/physical examination results, U.S. Military Academy faculty evaluations, American College Testing Service, Educational Testing Service, and similar relevant documents.

Exemptions claimed for the system:

Parts of this system may be exempt under 5 U.S.C. 552a(k)(5), (k)(6), or (k)(7), as applicable.

An exemption rule for this record system has been promulgated in accordance with the requirements of 5 U.S.C. 553(b)(1), (2), and (3), (c) and (e) and published in 32 CFR part 505. For additional information contact the system manager.

[FR Doc. E8-17016 Filed 7-24-08; 8:45 am]

BILLING CODE 5001-06-P